DEPARTMENT OF COMMERCE

International Trade Administration

[A-570-943]

Oil Country Tubular Goods From the People's Republic of China: Preliminary Results of Antidumping Duty Administrative Review; 2017-2018

AGENCY: Enforcement and Compliance, International Trade Administration, Department of Commerce.

SUMMARY: The Department of Commerce (Commerce) preliminarily determines that none of the companies subject to this review have established their entitlement to a separate rate during the May 1, 2017, through April 30, 2018 period of review (POR) and, thus, are part of the China-wide entity. We invite interested parties to comment on these preliminary results.

DATES: Applicable March 15, 2019.

FOR FURTHER INFORMATION CONTACT: Kent Boydston, AD/CVD Operations, Office VI, Enforcement and Compliance, International Trade Administration, U.S. Department of Commerce, 1401 Constitution Avenue NW, Washington, DC 20230; telephone: (202) 482-5649.

SUPPLEMENTARY INFORMATION:

Background

On May 1, 2018, Commerce published a notice of opportunity to request an administrative review of the antidumping duty order on oil country tubular goods (OCTG) from the People's Republic of China (China).¹ The POR is May 1, 2017, through April 30, 2018. On May 31, 2018, Commerce received a timely request from Maverick and TenarisBayCity (the petitioners) to conduct an administrative review of four companies, in accordance with 19 CFR 351.213(b).² There were no requests for an administrative review by any other party. Pursuant to the petitioners' request, on July 12, 2018, in accordance with section 751(a) of the Tariff Act of 1930, as amended (the Act), Commerce initiated an administrative review of the antidumping duty order on OCTG from China for the 2017-2018 POR.³ As explained in the memorandum from the Deputy Assistant Secretary for Antidumping and Countervailing Duty Operations, performing the non-exclusive functions and duties of the Assistant Secretary for Enforcement and Compliance, Commerce has exercised its discretion to toll all administrative deadlines due to the recent closure of the Federal Government. All deadlines in this segment of the proceeding have been extended by 40 days.⁴ The revised deadline for the preliminary results of this review is now March 12, 2019. For a complete description of the events that followed the initiation of this administrative review, see the Preliminary Decision Memorandum which is hereby adopted by this notice.⁵

¹ See Antidumping or Countervailing Duty Order, Finding, or Suspended Investigation; Opportunity to Request Administrative Review, 83 FR 19047 (May 1, 2018).

² See Petitioner's submission entitled, “Certain Oil Country Tubular Goods/rom The People's Republic of

China: Request for Administrative Review,” dated May 31, 2018.

³ See Initiation of Antidumping and Countervailing Duty Administrative Reviews, 83 FR 32270 (July 12, 2018).

⁴ See Memorandum to the file from Gary Taverman, Deputy Assistant Secretary for Antidumping and Countervailing Duty Operations, performing the non-exclusive functions and duties of the Assistant Secretary for Enforcement and Compliance regarding “Deadlines Affected by the Partial Shutdown of the Federal Government,” dated January 28, 2019.

⁵ See “Decision Memorandum for the Preliminary Results of the Antidumping Duty Administrative Review: Oil Country Tubular Goods from the People's Republic of China,” dated concurrently with this notice.

The Preliminary Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Preliminary Decision Memorandum can be accessed directly at http://enforcement.trade.gov/frn/. The signed Preliminary Decision Memorandum and the electronic version of the Preliminary Decision Memorandum are identical in content.

Scope of the Order

The scope of this order consists of certain OCTG, which are hollow steel products of circular cross-section, including oil well casing and tubing, of iron (other than cast iron) or steel (both carbon and alloy), whether seamless or welded, regardless of end finish (e.g., whether or not plain end, threaded, or threaded and coupled) whether or not conforming to API or non-API specifications, whether finished (including limited service OCTG products) or unfinished (including green tubes and limited service OCTG products), whether or not thread protectors are attached.

The merchandise subject to this order is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The OCTG coupling stock covered by the order may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, and 7304.59.80.80.

For a complete description of the scope of the order, see the Preliminary Decision Memorandum.

Methodology

Commerce is conducting this review in accordance with section 751(a)(1)(B) of the Act and 19 CFR 351.213. For a full description of the methodology underlying our preliminary results of review, see the Preliminary Decision Memorandum. A list of topics discussed in the Preliminary Decision Memorandum is provided in the Appendix to this notice.

Separate Rates

The four companies for which a review was requested failed to provide separate rate applications or certifications.⁶ Therefore, Commerce preliminarily determines that these four companies are part of the China-wide entity. Because no party requested a review of the China-wide entity, the entity is not under review, and the entity's dumping margin of 99.14 percent is not subject to change.⁷ For additional information regarding this determination, see the Preliminary Decision Memorandum.

⁶ The four companies are: (1) Baoshan Iron & Steel; (2) Hengyang Steel Tube Group International Trading Inc.; (3) Hubei Xinyegang Steel Co., Ltd.; and (4) Hubei Xin Yegang Special Tube.

⁷ See Certain Oil Country Tubular Goods From the People's Republic of China: Amended Final Determination of Sales at Less Than Fair Value and Antidumping Duty Order, 75 FR 28551 (May 21, 2010).

Public Comment

Interested parties are invited to comment on the preliminary results and may submit case briefs and/or written comments, filed electronically using ACCESS, within 30 days of the date of publication of this notice, pursuant to 19 CFR 351.309(c)(1)(ii). Rebuttal briefs, limited to issues raised in the case briefs, will be due five days after the due date for case briefs, pursuant to 19 CFR 351.309(d). Parties who submit case or rebuttal briefs in this review are requested to submit with each argument a statement of the issue, a summary of the argument not to exceed five pages, and a table of statutes, regulations, and cases cited, in accordance with 19 CFR 351.309(c)(2).

Any interested party may request a hearing within 30 days of publication of this notice.⁸ Hearing requests should contain the following information: (1) The party's name, address, and telephone number; (2) the number of participants; and (3) a list of the issues to be discussed. Oral presentations at the hearing will be limited to issues raised in the case briefs. If a request for a hearing is made, parties will be notified of the time and date of the hearing to be held at the U.S. Department of Commerce, 1401 Constitution Avenue NW, Washington, DC 20230.⁹

⁸ See 19 CFR 351.310(c).

⁹ See 19 CFR 351.310(d).

Unless extended, Commerce intends to issue the final results of this administrative review, which will include the results of its analysis of issues raised in any briefs received, within 120 days of publication of these preliminary results, pursuant to section 751(a)(3)(A) of the Act.

Assessment Rates

Upon issuing the final results of this review, Commerce will determine, and Customs and Border Protection (CBP) shall assess, antidumping duties on all appropriate entries covered by this review.¹⁰ Commerce intends to issue assessment instructions to CBP 15 days after the publication date of the final results of this review. We intend to instruct CBP to liquidate entries of subject merchandise exported by the China-wide entity, including the four companies for which a review was requested, at the China-wide rate. Additionally, pursuant to Commerce's practice in non-market economy (NME) cases, any suspended entries of subject merchandise during the POR under case numbers for the companies for which a review was requested will be liquidated at the China-wide rate.¹¹

¹⁰ See 19 CFR 351.212(b).

¹¹ For a full discussion of this practice, see Non-Market Economy Antidumping Proceedings: Assessment of Antidumping Duties, 76 FR 65694 (October 24, 2011).

Cash Deposit Requirements

The following cash deposit requirements will be effective upon publication of the final results of this review for shipments of subject merchandise from China entered, or withdrawn from warehouse, for consumption on or after the publication date, as provided by sections 751(a)(2)(C) of the Act: (1) For previously investigated or reviewed China and non-China exporters that received a separate rate in a prior segment of this proceeding, the cash deposit rate will continue to be the existing exporter-specific rate; (2) for all Chinese exporters of subject merchandise that have not been found to be entitled to a separate rate, the cash deposit rate will be the rate for the China-wide entity, which is 99.14 percent; and (3) for all non-China exporters of subject merchandise which have not received their own rate, the cash deposit rate will be the rate applicable to the China exporter that supplied that non-China exporter.

These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act and 19 CFR 351.221(b)(4).

Dated: March 12, 2019.
Christian Marsh,
Deputy Assistant Secretary for Enforcement and Compliance.

Appendix

List of Topics Discussed in the Preliminary Decision Memorandum

(1) Summary

(2) Background

(3) Scope of the Order

(4) Discussion of the Methodology

a. Companies that Have Not Demonstrated Eligibility for Separate Rate Status

(5) Recommendation

[FR Doc. 2019-04877 Filed 3-14-19; 8:45 am]

BILLING CODE 3510-DS-P